NUCLEAR REGULATORY COMMISSION

Agency Information Collection Activities: Proposed Collection; Comment Request

AGENCY: U.S. Nuclear Regulatory Commission (NRC).

ACTION: Notice of pending NRC action to submit an information collection request to the Office of Management and Budget (OMB) and solicitation of public comment.

SUMMARY: The NRC is preparing a submittal to OMB for review of continued approval of information collections under the provisions of the Paperwork Reduction Act of 1995 (44 U.S.C. Chapter 35).

Information pertaining to the requirement to be submitted:

1. The title of the information collection: 10 CFR Part 31, General Domestic Licenses for Byproduct Material.

2. Current OMB approval number: 3150-0016.

3. How often the collection is required: Reports are submitted as events occur. General license registration requests may be submitted at any time. Changes to the information on the registration may be submitted as they occur.

4. Who is required or asked to report: Persons receiving, possessing, using, or transferring devices containing byproduct material.

5. The number of annual responses: 35,663 (1,073 NRC responses + 3,900 NRC recordkeepers + 11,290 Agreement State responses + 19,400 Agreement State recordkeepers).

6. The number of annual respondents: Approximately 3,900 NRC general licensees and 19,400 Agreement State general licensees.

7. The number of hours needed annually to complete the requirement or request: 10,868 (1,460 hours for NRC licensees [975 hours recordkeeping and 485 hours reporting] and 9,408 hours for Agreement State licensees [4,850 hours recordkeeping and 4,558 hours reporting].

8. Abstract: 10 CFR Part 31 establishes general licenses for the possession and use of byproduct material in certain devices and a general license for use of byproduct material. General licensees are required to keep records and submit reports identified in Part 31 in order for NRC to determine with reasonable assurance that devices are operated safely and without radiological hazard to users or the public.

Submit, by July 7, 2008, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Margaret A. Janney (T-5 F52), U.S. Nuclear Regulatory Commission, Washington, DC 20555-0001, by telephone at 301-415-7245, or by e-mail to INFOCOLLECTS@NRC.GOV.

Dated at Rockville, Maryland, this 2nd day of May 2008.
For the Nuclear Regulatory Commission.
Gregory Trussell,
Acting NRC Clearance Officer, Office of Information Services.

[FR Doc. E8-10249 Filed 5-7-08; 8:45 am]

BILLING CODE 7590-01-P